FEDERAL DEPOSIT INSURANCE CORPORATION

Agency Information Collection Activities: Proposed Collection Renewals; Comment Request

AGENCY: Federal Deposit Insurance Corporation (FDIC).

ACTION: Notice and request for comment.

SUMMARY: The FDIC, as part of its continuing effort to reduce paperwork and respondent burden, invites the general public and other Federal agencies to take this opportunity to comment on continuing information collections, as required by the Paperwork Reduction Act of 1995 (44 U.S.C. chapter 35). Currently, the FDIC is soliciting comments on renewal of three information collections: Quarterly Certified Statements Invoice (OMB No. 3064-0057); Student Educational Employment Program (OMB No. 3064-0147); and Complex Structured Finance Transactions (OMB No. 3064-0079).

DATES: Comments must be submitted on or before August 16, 2010.

ADDRESSES: Interested parties are invited to submit written comments by any of the following methods:

• http://www.FDIC.gov/regulations/laws/federal/notices.html

• E-mail: comments@fdic.gov Include the name of the collection in the subject line of the message.

• Mail: Leneta G. Gregorie (202-898-3719), Counsel, Room F-1064, Federal Deposit Insurance Corporation, 550 17th Street, NW., Washington, DC 20429.

• Hand Delivery: Comments may be hand-delivered to the guard station at the rear of the 17th Street Building (located on F Street), on business days between 7 a.m. and 5 p.m.

All comments should refer to the relevant OMB control number. A copy of the comments may also be submitted to the OMB Desk Officer for the FDIC: Office of Information and Regulatory Affairs, Office of Management and Budget, New Executive Office Building, Washington, DC 20503.

FOR FURTHER INFORMATION CONTACT: Leneta Gregorie, at the FDIC address above.

SUPPLEMENTARY INFORMATION: Proposal to renew the following currently approved collections of information:

1. Title: Quarterly Certified Statements Invoice (formerly known as Certified Statement for Deposit Insurance Assessment).

OMB Number: 3064-0057.

Affected Public: Insured financial institutions.

Estimated Number of Respondents: 7966.

Estimated Time per Response: 20 minutes.

Frequency of Response: Quarterly.

Total Annual Burden: 10,621 hours.

General Description of Collection: The FDIC collects deposit insurance assessments quarterly by means of direct debits through the automated Clearing House network.

2. Title: Student Educational Employment Program.

OMB Number: 3064-0147.

Affected Public: Students seeking employment with the FDIC.

Estimated Number of Responses: 700.

Estimated Time per Response: 20 minutes.

Frequency of Response: On occasion.

Total Annual Burden: 234 hours.

General Description of Collection: The application form used in this collection ensures that students seeking employment with FDIC as participants in either one of the two components of the Student Educational Employment Program (i.e., the Student Temporary Employment Program (STEP) or the Student Career Experience Program (SCEP)) meet the government-wide eligibility criteria established by the Office of Personnel Management as well as the internal eligibility criteria established by the FDIC. The information collected will include information on the applicant's coursework, grade point averages, and relationship to any FDIC employee.

3. Title: Complex Structured Finance Transactions.

OMB Number: 3064-0148.

Affected Public: State nonmember banks actively involved in complex structured finance transactions.

Estimated Number of Responses: 5.

Estimated Time per Response: 25 hours.

Frequency of Response: On occasion.

Total Annual Burden: 125 hours.

General Description of Collection: Institutions verify and update their policies and procedures regarding complex structured finance transactions periodically to ensure that they are adequate and current.

Request for Comment

Comments are invited on: (a) Whether these collections of information are necessary for the proper performance of the FDIC's functions, including whether the information has practical utility; (b) the accuracy of the estimates of the burden of the information collections, including the validity of the methodology and assumptions used; (c) ways to enhance the quality, utility, and clarity of the information to be collected; and (d) ways to minimize the burden of the information collections on respondents, including through the use of automated collection techniques or other forms of information technology. All comments will become a matter of public record.

Dated at Washington, DC this 10th day of June, 2010.
Federal Deposit Insurance Corporation.
Valerie J. Best,
Assistant Executive Secretary.

[FR Doc. 2010-14440 Filed 6-15-10; 8:45 am]

BILLING CODE 6714-01-P